DEPARTMENT OF HEALTH AND HUMAN SERVICES

Office of Inspector General

Program Exclusions: March 2000

AGENCY: Office of Inspector General, HHS

ACTION: Notice of program exclusions.

During the month of March 2000, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject City, State | Effective date
Program-Related Convictions
Baez, Eduardo, Lewisburg, PA | 04/20/2000
Bizayko, Yuri, Brooklyn, NY | 04/20/2000
Bouska Wright, Janet Kay, Wichita, KS | 04/20/2000
Broadnax, Deitrich, Irvington, NJ | 04/20/2000
Burrus, Gregory A., Roxbury, CT | 04/20/2000
Campbell, Vera, Bronx, NY | 04/20/2000
Cassara, Carmine, Centereach, NY | 04/20/2000
Colbert, Jonathan A., Ballston, NY | 04/20/2000
Costa, Lynn A., New Bedford, MA | 04/20/2000
Davis, Caroline Yvonne, Tacoma, WA | 04/20/2000
Delgado, Ileana, Philadelphia, PA | 04/20/2000
Desanto, Gary, Avoca, PA | 04/20/2000
Disibio, Joseph, Staten Island, NY | 04/20/2000
Glushefski, Francis M., Plymouth, PA | 04/20/2000
Gomez, Gerardo, Miami, FL | 04/20/2000
Gourdikian, Haig K., Glendale, CA | 09/02/1999
Heang, Hoeup Karena, Long Beach, CA | 04/20/2000
Hernandez, Linda Porter, Monroe, LA | 04/20/2000
Hosea, Claude Thomas, New Smyrna Beach, FL | 04/20/2000
Huff, Tracy Michelle Davis, Bryan, TX | 04/20/2000
Island Ambulette, Inc., Kings Park, NY | 04/20/2000
James, Darren J., Keyport, NJ | 04/20/2000
Jamil, Irtafa, Bayside, NY | 04/20/2000
Jones-Price, Antoinette, Wendell, NC | 04/20/2000
Lemon, Lazarus, Pittsburgh, PA | 04/20/2000
Lifechem Inc., Lexington, MA | 03/21/2000
Loiseau, Gloria Jean, S Pasadena, CA | 04/20/2000
Maldonado, Bernardo, Santa Rosa, PR | 04/20/2000
Merriweather, Sue, Lanham, MD | 04/20/2000
Morgan, John J. JR., Covington, LA | 04/20/2000
Nehorayoff, Mariana, Scarsdale, NY | 04/20/2000
Nemeroff, Ronald M., New York, NY | 04/20/2000
Newman, Rosanna Kim, Forest Grove, OR | 04/20/2000
NMC Homecare, Inc., Lexington, MA | 03/21/2000
NMC Medical Products, Inc., Lexington, MA | 03/21/2000
Olson, Penny Ann, Eugene, OR | 04/20/2000
Parks, Homer Patrick, Weatherford, TX | 04/20/2000
Pasekov, Mikhail, Brooklyn, NY | 04/20/2000
Patel, Harshadray M., Yonkers, NY | 04/20/2000
Paul Jeffrey Wright DDS, Mulvane, KS | 04/20/2000
Pelotte, Terry L., S Windham, ME | 04/20/2000
Qayyum, Abdul, Teaneck, NJ | 04/20/2000
Rivas, Jacinto, Intercession City, FL | 04/20/2000
Robinson-Hallam, Beverly, S. Windsor, CT | 04/20/2000
Rodriguez, Jesus, Palm Springs, FL | 04/20/2000
Schwartz, Douglas A., Lawrence, NY | 04/20/2000
Shakhnovich, Gennady, Swampscott, MA | 04/20/2000
Shukla, Kishorekumar R., Freehold, NJ | 04/20/2000
Skinner, Vicki, Tempe, AZ | 04/20/2000
Sophain, Tep M., Kent, WA | 04/20/2000
Strum, Thomas C., Mt. Plesant Mills, PA | 04/20/2000
Sulaiman, Ihab Tayseer, Oakdale, LA | 04/20/2000
Sutton, James L., Chargrin Falls, OH | 04/20/2000
Taylor, Jim, Jesup, GA | 04/20/2000
Turovsky, Leonid, Brooklyn, NY | 04/20/2000
Verian, Richard, Northridge, CA | 02/24/2000
Vitale, Jack, Manalapan, NJ | 04/20/2000
Walkley, Glenn S., White Deer, PA | 04/20/2000
Wright, Paul Jeffrey, Mulvane, KS | 04/20/2000
Yemdin, Bella, Brooklyn, NY | 04/20/2000
Felony Conviction for Health Care Fraud
Blum, Jerrold E., Bloomfield, CT | 04/20/2000
Burdine, Gertrude, Alderson, VA | 04/20/2000
Caturano, John, New York, NY | 04/20/2000
Lenehan, Patrick D., Reeders, PA | 04/20/2000
Levandowski, Ann M., Biloxi, MS | 04/20/2000
Levinstim, Edwin, Goldens Bridge, NY | 04/20/2000
Stanton, Tammy Sue, Salem, OR | 04/20/2000
Felony Control Substances Conviction
Grimm, Artith Loann, Daly City, CA | 04/20/2000
Parkin, Valarie Coburn, Virginia Beach, VA | 04/20/2000
Romosan, Vasile D., Long Island City, NY | 04/20/2000
Sluck, Joann Hysock, Shenandoah, PA | 04/20/2000
Sorensen, Deborah P., Sacremento, CA | 04/20/2000
Ward, Anne Marshall, Troy, PA | 04/20/2000
Patient Abuse/Neglect Convictions
Ayers, Angela Michelle, N. Little Rock, AR | 04/20/2000
Bakhtminoo, Reza, Studio City, CA | 04/20/2000
Blackwell, Ronald S., Buffalo, NY | 04/20/2000
Brown, Christopher T., Holly Hill, SC | 04/20/2000
Brown, Connie, New Hebron, MS | 04/20/2000
Buckland, Charlene M., Rochester, NY | 04/20/2000
Cahee, Larry, Mendenhall, MS | 04/20/2000
Centeno, Michelle, Cuddebackville, NY | 04/20/2000
Corgnati, Susan, Bridgeville, PA | 04/20/2000
Cortez, Cesar C., Lockhart, TX | 04/20/2000
Davis, Mellonie Latrice, Stamps, AR | 04/20/2000
Fikes, Dora Mae, New Roads, LA | 04/20/2000
Gates, Peter Jr., Buffalo, NY | 04/20/2000
Genovesi, Bonita A., E. Greenbush, NY | 04/20/2000
Guyett, Jodi L., Utica, NY | 04/20/2000
Jones, Tashara, Oxford, MS | 04/20/2000
Law, Edward A. Jr., Edwards, NY | 04/20/2000
Maddox, Jo Ann Lepley, Kermit, TX | 04/20/2000
Martinez, Arturo, Jamaica, NY | 04/20/2000
Mitchell, Jane Ann, Hot Sprngs Village, AR | 04/20/2000
Moye, Iran, Brooklyn, NY | 04/20/2000
Perez, Faustino, Bronx, NY | 04/20/2000
Rosier, Marie A., Painesville, OH | 04/20/2000
Swain, Walter Leon, Little Rock, AR | 04/20/2000
Thompson, Lenora, Heath Springs, SC | 04/20/2000
Tyner, Shanita, Rochester, NY | 04/20/2000
Victor, Tara M., Hamburg, NY | 04/20/2000
Watson, Patricia June, Vilonia, AR | 04/20/2000
Williams, Deborah J., Jamestown, NY | 04/20/2000
Williams, Vanessa C., W. Columbia, SC | 04/20/2000
Woodall, Mary, Stonewall, MS | 04/20/2000
Conviction for Health Care Fraud
Grusd, Ronald Selwyn, Beverly Hills, CA | 04/20/2000
Schulman, Susan R., N. Bellmore, NY | 04/20/2000
Tumbleson, Alisha Kay, Clinton, AR | 04/20/2000
Controlled Substance Convictions
Benfield, Beverly H., Gate City, VA | 04/20/2000
Hertz, Carole E., E. Berlin, PA | 04/20/2000
License Revocation/Suspension/Surrendered
Appleton, Sue A., Winchester, MA | 04/20/2000
Armstrong, Victor Dell, Meridian, MS | 04/20/2000
Barlow, Timothy, Enterprise, AL | 04/20/2000
Barnes, Timothy Anthony, Brandon, MS | 04/20/2000
Bauer-Altizer, Donna E., Caro, MI | 04/20/2000
Bayliss, Barbara Ann, Portsmouth, NH | 04/20/2000
Bell, Gary John II, Dubois, PA | 04/20/2000
Bergey, Patricia Ann, Santa Ana, CA | 04/20/2000
Blount, Ronnie, Macon, GA | 04/20/2000
Boyer, Billy J., Cadillac, MI | 04/20/2000
Bradfield, Diane M., Jackson, MS | 04/20/2000
Brewer, Joyce N., Columbia Hgts, MN | 04/20/2000
Brown, Joanna Lee, Paso Robles, CA | 04/20/2000
Browning, Donald B., Vista, CA | 04/20/2000
Burden, Weldon Eugene III, Chesapeake, VA | 04/20/2000
Cavallaro, Gaetano V., Poughkeepsie, NY | 04/20/2000
Ciotti, Roberta Ceriani, Conneautville, PA | 04/20/2000
Cisero, Laura, Newton, CT | 04/20/2000
Clayton, Joanne R., Riverside, CA | 04/20/2000
Cody, William C., Mansfield, MI | 04/20/2000
Colwell, Christina Dawn, Apollo, PA | 04/20/2000
Conway, Cristina L., Rockford, IL | 04/20/2000
Cooney, Catherine, Manchester, CT | 04/20/2000
Coonley, Kevin Gerard, Sacramento, CA | 04/20/2000
Coulter, Jerry A., Erie, PA | 04/20/2000
Cowley, Beverly J., Lake City, MI | 04/20/2000
Curtis, Faye A., Swartz Creek, MI | 04/20/2000
Cutler, Vicki Renee, Tampa, FL | 04/20/2000
Daly, Maureen A., Bloomsburg, PA | 04/20/2000
Davenport, Keith Charles, Camarillo, CA | 04/20/2000
Davis, Maxine Cartwright, Weston, CT | 04/20/2000
Davis, Bonnie, Montgomery, AL | 04/20/2000
Davis, Jami Terrina, Alexander City, AL | 04/20/2000
Davis, Shelia L., Greenville, MS | 04/20/2000
Degange, Annette West, Pasadena, CA | 04/20/2000
Dewitt, Linda Joy Padgett, Sarasota, FL | 04/20/2000
Dia, Mohamed F., Torrance, CA | 04/20/2000
Dougherty, Linda Hirsch, Hazleton, PA | 04/20/2000
Dougovito, Michael F., Manistique, MI | 04/20/2000
Dube, Philippe Abel, Edison, GA | 04/20/2000
Ellis, Carolyn R., Orrtanna, PA | 04/20/2000
Ernest, Judith Ann, Bradenton, FL | 04/20/2000
Estes, Joel Alan, Gadsden, AL | 04/20/2000
Evans, Kara K., Ariton, AL | 04/20/2000
Fagan, Deborah Cieslik, Lancaster, PA | 04/20/2000
Feinstein, Debra Ann, E. Stroudsburg, PA | 04/20/2000
Fisher, Keith W., Maumelle, AR | 04/20/2000
Fleeher, Marian A., N. Miami, FL | 04/20/2000
Forberger, Dennis P., Sauk Rapids, MN | 04/20/2000
Freeman, Lisa K., Front Royal, VA | 04/20/2000
Gates, Tracey, Huntington, CT | 04/20/2000
Geary, Penelope, East Hartford, CT | 04/20/2000
George, Aimee Renee Cintron, Youngstown, OH | 04/20/2000
Gilliland, Cynthia Doan, Sarasota, FL | 04/20/2000
Gilmore, Jessica, Unionville, CT | 04/20/2000
Glisson, Cynthia Ann Jones, Dover, FL | 04/20/2000
Hardy, Patsy Gwen, Sylacauga, AL | 04/20/2000
Harrison, Margaret Alice, Birmingham, AL | 04/20/2000
Helman, Beth Ellen, Sacramento, CA | 04/20/2000
Hicks, Amanda Marisa Herring, Columbia, MS | 04/20/2000
Hicks, Sandra H., Newport News, VA | 04/20/2000
Higginbotham, Leslie Carol, Crossville, AL | 04/20/2000
Himes, Janet M., Bemidji, MN | 04/20/2000
Holmes, Randall Nathan, Butler, PA | 04/20/2000
Howard, Dawnne P., Eustis, FL | 04/20/2000
Hultman, Barry W., N Branford, CT | 04/20/2000
Hunter, Katherine Susan, Palatka, FL | 04/20/2000
Ianelli, Marla J., Demopolis, AL | 04/20/2000
Igwacho, Florence N., Greenbelt, MD | 04/20/2000
Issa, Adly Mansour, Hemet, CA | 04/20/2000
Jemison, Connie, Birmingham, AL | 04/20/2000
Jennings, Thomas Josef, Redway, CA | 04/20/2000
Johnson, Randy L., Ellsworth, ME | 04/20/2000
Johnston, Anise C., Troy, AL | 04/20/2000
Kane, Debbie Chesen, Jenkintown, PA | 04/20/2000
Karaviotis, Karen, Old Saybrook, CT | 04/20/2000
Kartell, James P., Andover, MA | 04/20/2000
Kashan, Steven, Hicksville, NY | 04/20/2000
Keck, Tracey Lynn, Riverside, CA | 4/20/2000
Kelly, Colleen Betty Snyder, Lehigh, FL | 04/20/2000
King, Carol G., Fredricksburg, VA | 04/20/2000
Kristoff, Pamela, Andover, CT | 04/20/2000 Page 11
Kriwox, Diane M., Edinburg, PA | 04/20/2000
Lee, Karen L., Bedford, TX | 04/20/2000
Lee, Yun Sheng, Redding, CA | 04/20/2000
Lessard, Sharon, Westbrook, CT | 04/20/2000
Lively, Indrea F., Jasper, AL | 04/20/2000
Loll-Van Sickle, Patricia M., Elmer, NJ | 04/20/2000
Lorren, Victoria Ann, Gadsden, AL | 04/20/2000
Lotz, Margaret, Pottstown, PA | 04/20/2000
Lucas, William A., Holt, MI | 04/20/2000
MacDonald, John R., Dallas, TX | 04/20/2000
Macias, Carlos Orosco Jr., Whittier, CA | 04/20/2000
Mack, Michael D., New Baltimore, MI | 04/20/2000
Manley, Aparil Dawn, Elkmont, AL | 04/20/2000
Marayelle, Judith P., Santa Barbara, CA | 04/20/2000
Marin, Philip G., Alameda, CA | 04/20/2000
Martin, Angelyn Kinard, Duncanville, AL | 04/20/2000
Martin, Ellen R. Bartlett, Huntsville, AL | 04/20/2000
McGee, David R., Burlington, VT | 04/20/2000
McGovern, Mary Ann, Hartford, CT | 04/20/2000
McKenney, Clifton, Waterford, CT | 04/20/2000
Mijanovich, James R., Columbus, NC | 04/20/2000
Mills, Kay Frances, Los Altos Hills, CA | 04/20/2000
Moglen, Leslie J., San Francisco, CA | 04/20/2000
Moyer-Touhey, Barbara A., Pittsfield, MA | 04/20/2000
Mullins, Danny R., Creola, OH | 04/20/2000
Nydegger, Carmen M., St. Louis Park, MN | 04/20/2000
O'Donnell, Linda M., New Brighton, MN | 04/20/2000
O'Neil, Rhonda, Louisville, KY | 04/20/2000
Obanion, Jessica A., Red Wing, MN | 04/20/2000
Park, Hae Gun, Arcadia, CA | 04/20/2000
Patron, Melinda Loraine, Coral Springs, FL | 04/20/2000
Pendergrass, Alva W., Fresno, CA | 04/20/2000
Pennucci, Joel Charles, N. Bennington, VT | 04/20/2000
Perez, Ramon Luis, Pittsburgh, PA | 04/20/2000
Peterson, Darla M., St. Cloud, MN | 04/20/2000
Proulex, Dianna, Abington, VA | 04/20/2000
Quackenbush, Gail, Wellsboro, PA | 04/20/2000
Ralston, Carol J., Minneapolis, MN | 04/20/2000
Ramos, Marcos U., Lynn, MA | 04/20/2000
Reddick, Kadijatu, Springfield, VA | 04/20/2000
Reichen, Kathleen M., Virginia Beach, VA | 04/20/2000
Rhee, Ky Young, Tustin, CA | 04/20/2000
Richey, Debra G., Shaftsbury, VT | 04/20/2000
Ridgeway, Theresa C., Dyke, VA | 04/20/2000
Robinson, Alan J., Swords Creek, VA | 04/20/2000
Robinson, Andre, Richmond, VA | 04/20/2000
Robinson, James Clifford, Jr., Portland, OR | 04/20/2000
Rowland, Vonnie Lee, Los Angeles, CA | 04/20/2000
Roy, Sharon, Harrisville, RI | 04/20/2000
Sadrai-Nadjafi, Abbas, Beverly Hills, CA | 04/20/2000
Samson, Michael Kevin, Morro Bay, CA | 04/20/2000
Samuels, Arthur J., Felton, CA | 04/20/2000
Savery, Francois L., Las Vegas, NV | 04/20/2000
Scott-Hudson, Anne Christine, Chattanooga, TN | 04/20/2000
Shah, Rashmikant Kantilal, Bakersfield, CA | 04/20/2000
Shanfeld, Norman M., Havertown, PA | 04/20/2000
Shere, Joshua, Los Angeles, CA | 04/20/2000
Sherin, Patrick R., Minneapolis, MN | 04/20/2000
Short, Arlene, Buffalo, NY | 04/20/2000
Simington Palardis, Sherrie L., Fergus Falls, MN | 04/20/2000
Smith, Philip, N. Bay Village, FL | 04/20/2000
Smith, Teri Jean, Riverside, CA | 04/20/2000
Srebnack, Debra Renee, Florence, AL | 04/20/2000
Stanley, Robert Harvey, Fort Worth, TX | 04/20/2000
Stein-Young, Eden, Branford, CT | 04/20/2000
Stewart, Beverly Kay, Montgomery, AL | 04/20/2000
Stewart, James Allen, Los Angeles, CA | 04/20/2000
Sylvia, Michael Dean, Jupiter, FL | 04/20/2000
Talbert, Kathryn Condon, Artemas, PA | 04/20/2000
Teal, Mary Elizabeth, Gadsden, AL | 04/20/2000
Teske, Sheila R., Lyndonville, VT | 04/20/2000
Thomason, Robert N., Las Vegas, NV | 04/20/2000
Thompson, Deborah L., Annville, PA | 04/20/2000
Thongrivong, Phoupasith, Opelika, AL | 04/20/2000
Tieszen, Frances Ann, Birmingham, AL | 04/20/2000
Trefil, Jon Charles, Alibion, CA | 04/20/2000
Tucker, Kenneth M., Cullman, AL | 04/20/2000
Tyler, Brenda L., Remington, VA | 04/20/2000
Van Dyke, Joel Wilson, Birmingham, AL | 04/20/2000
Vance, Vivian Shields, Bartow, FL | 04/20/2000
Vandiver, Rise K., Russell, Mt. Olive, AL | 04/20/2000
Vemuri, Ramesh Babu, Elgin, IL | 04/20/2000
Vicencio, Vaila Sison, Walnut, CA | 04/20/2000
Voss, Robin Dawn, Hartselle, AL | 04/20/2000
Waite, Verner S., Cypress, CA | 04/20/2000
Waller, Parker M., Jr., Greenville, AL | 04/20/2000
Wesely, Jo Anna K., St Paul, MN | 04/20/2000
Wesner, Robert A., Mountville, PA | 04/20/2000
Williams, Cynthia K., Wilkes-Barre, PA | 04/20/2000
Williams, Amy A., Shamokin, PA | 04/20/2000
Williams, Cheryl L., Ashland, OH | 04/20/2000
Wittig, John H., San Diego, CA | 04/20/2000
Woodard, Bart Wayne, Mesquite, TX | 04/20/2000
Wright, Sonya Cassidy Pride, Batesville, MS | 04/20/2000
Wuensch, Kelley, Darien, CT | 04/20/2000
Federal/State Exclusion/Suspension
Abrams, Irving, Morganville, NJ | 04/20/2000
Byrne, Rodolfo, Jamaica, NY | 04/20/2000
Oscar, Alvin D., Philadelphia, PA | 04/20/2000
Fraud/Kickbacks
Acord, Ricky D., Montgomery, AL | 02/04/2000
Acord, Virginia G., Pike Road, AL | 02/04/2000
Acord, Price Darrell, Pike Road, AL | 02/04/2000
City Ambulance of Alabama, Montgomery, AL | 02/04/2000
Graydon (Owens), Peggy A., Montgomery, AL | 02/04/2000
Owned/Controlled by Convicted Excluded
Brown Chiropractic Graham, TX | 04/20/2000
Cole Chiropractic Woodland Hills, CA | 04/20/2000
Daniel D. Mathews, D P M, P C, Bronx, NY | 04/20/2000
Easley & Easley, Hillsboro, OH | 04/20/2000
Family Chiropractic Clinic of Friendswood, TX | 04/20/2000
Fatima Medical Center, Inc., Miami, FL | 04/20/2000
Hampton Medical Associates, Southampton, PA | 04/20/2000
Hayward Chiropractic Health, Hayward, CA | 04/20/2000
Jon Colbert, Inc., Monroe, NY | 04/20/2000
Lake Tahoe Eyecare, Stateline, NV | 04/20/2000
Lighthouse Support Svcs, Inc., Riverhead, NY | 04/20/2000
Matthew Chiropractic Clinic, Fort Smith, AR | 04/20/2000
Medford Family Chiropractic, Medford, OR | 04/20/2000
Richard Clark Chiropractic, San Diego, CA | 04/20/2000
Saint Joseph Health Center, San Jose, CA | 04/20/2000
Schectman's Pharmacy, Mt. Vernon, NY | 04/20/2000
Southgate Health Center, Daly City, CA | 04/20/2000
Sunnyside Chiropractic Acciden, Grove City, OH | 04/20/2000
Y & I Rental Medical Equip Cor., Miami, FL | 04/20/2000
Default on Heal Loan
Attig, Robert C. Jr., Blue Bell, PA | 04/20/2000
Baer, Andrew M., Sharon, PA | 04/20/2000
Ball, Thomas, Jr., Detroit, MI | 04/20/2000
Bohn, Sara B., California, MO | 04/20/2000
Buccialia, Craig M., Willow Grove, PA | 04/20/2000
Chun, John H., EL Cajon, CA | 04/20/2000
Clark, Freeman L., Johnson City, TN | 04/20/2000
Coleman, James H. Jr., San Jose, CA | 04/20/2000
Crislip, David F., Elizabethton, TN | 02/24/2000
Demopoulos, Constantine, Upper Darby, PA | 04/20/2000
Fallman, James M. III, Cresent City, CA | 04/20/2000
Farris, Farral W., Roanoke, TX | 04/20/2000
Gibson, Geoffrey J., Clearwater, FL | 04/20/2000
Gullish, Amy B., Sherman Oaks, CA | 04/20/2000
Ha, Dong N., Oklahoma City, OK | 04/20/2000
Habbart, Joseph L., Veneta, OR | 04/20/2000
Hafer, Kathryn J., Kalamazoo, MI | 04/20/2000
Hall, Dudley B., Bridgeport, CT | 04/20/2000
Javarone, Richard J., Oakdale, PA | 04/20/2000
Kahn, Albert, San Jose, CA | 04/20/2000
Kazakowitz, Harriet A., Port Richey, FL | 04/20/2000
Kinsey-Green, Joy L., Indianapolis, IN | 04/20/2000
Mitchell, Robert Scott, Everett, WA | 02/23/2000
Mosrie, Ronnie L., Christianburg, VA | 04/20/2000
Murphy, John P., Madison, WI | 04/20/2000
Pairot, Alfredo A., Miami, FL | 04/20/2000
Parks, Anita J., Boliver, TN | 04/20/2000
Powell, Curtis, Monrovia, CA | 04/20/2000
Rodriguez, Luz M., Williamsville, NY | 04/20/2000
Sparks, Stacey L., Houston, TX | 04/20/2000
Tropeano, Ray, Los Alamitos, CA | 04/20/2000
Vickers, Joel B., Holland, MI | 04/20/2000

Dated: March 31, 2000.
Joanne Lanahan,
Director, Health Care Administrative Sanctions; Office of Inspector General.

[FR Doc. 00-8824 Filed 4-7-00; 8:45 am]

BILLING CODE 4150-04-P